DEPARTMENT OF TRANSPORTATION

Federal Aviation Administration

14 CFR Part 71

[Docket No. FAA-2023-2097; Airspace Docket No. 23-ANE-7]

RIN 2120-AA66

Amendment of Very High Frequency Omnidirectional Range (VOR) Federal Airway V-16; Northeast United States

AGENCY: Federal Aviation Administration (FAA), DOT.

ACTION: Final rule.

SUMMARY: This action amends Very High Frequency Omnidirectional Range (VOR) Federal airway V-16. This action is necessary to reinstate six route points that were inadvertently omitted in a previous route amendment of VOR Federal Airway V-16 that took effect August 10, 2023.

DATES: Effective date 0901 UTC, January 25, 2024. The Director of the Federal Register approves this incorporation by reference action under 1 CFR part 51, subject to the annual revision of FAA Order JO 7400.11 and publication of conforming amendments.

ADDRESSES: FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a NPRM for Docket No. FAA-2022-0901 in the Federal Register (87 FR 43755; July 22, 2022), proposing to amend VOR Federal airway V-16 by removing the route segments between the Richmond, VA (RIC), VOR/Tactical Air Navigation (VORTAC) and the Boston, MA (BOS), VOR/Distance Measuring Equipment (VOR/DME). The FAA then published a final rule for Docket No. FAA-2022-0901 in the Federal Register (88 FR 32638; May 22, 2023) amending V-16. In the final rule, differences from the NPRM were stated that after publication of the NPRM the FAA decided to retain some of the segments of V-16. Specifically, the FAA removed the segments between the Richmond VORTAC, and the Smyrna, DE (ENO), VORTAC; and the segments between the CREAM, NY, Fix, and the Boston VOR/DME. The segment between the Smyrna VORTAC and the CREAM, Fix was retained. The legal description in that final rule only reinstated the first and last points in the segment being retained and inadvertently omitted the six intermediate route points that made up the original route segments. This action reinstates the six route points that originally defined the route segments between the Smyrna VORTAC and the CREAM, Fix.

Incorporation by Reference

United States VOR Federal Airways are published in paragraph 6010 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by modifying VOR Federal airway V-16 to reinstate six route points that were inadvertently omitted in a previous route amendment in Docket No. FAA-2022-0901 in the Federal Register (88 FR 32638; May 22, 2023). The route changes are described below.

V-16: V-16 consists of three parts: between the Los Angeles, CA (LAX), VORTAC, and the Holly Springs, MS (HLI), VORTAC; between the Shelbyville, TN (SYI), VOR/DME, and the Richmond VORTAC; and between the Smyrna VORTAC and the CREAM Fix. The CREAM Fix is defined by the intersection of the Calverton, NY (CCC), VOR/DME 044°, and the Madison, CT (MAD), VOR/DME 142° radials. The first and second part of the route, between the Los Angeles VORTAC and the Holly Springs VORTAC; and between the Shelbyville VOR/DME and the Richmond VORTAC remains unchanged as currently published in FAA Order JO 7400.11H. This action amends the third part of the route by reinstating six route points to the legal description between the Smyrna VORTAC and the Calverton VOR/DME, 044°, and the Madison VOR/DME 142° radials. As amended the third route segment is defined as Smyrna VORTAC; Cedar Lake, NJ (VCN), VOR/DME; Coyle, NJ (CYN), VORTAC; INT Coyle VORTAC 036° and Kennedy, NY (JFK), VOR/DME 209° radials; Kennedy VOR/DME; INT Kennedy VOR/DME 040° and Calverton VOR/DME 261° radials; Calverton VOR/DME; to INT Calverton VOR/DME 044° and Madison VOR/DME 142° radials.

The NAVAID radials listed in the V-16 description in The Rule section are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airway V-16 in the Northeastern United States, qualifies for categorical exclusion under the National Environmental Policy Act (42 U.S.C. 4321 et seq.) and its implementing regulations at 40 CFR part 1500, and in accordance with FAA Order 1050.1F, “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this airspace action is not expected to cause any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFICSERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11H, Airspace Designations and Reporting Points, dated August 11, 2023, and effective September 15, 2023, is amended as follows:

Paragraph 6010(a) Domestic VOR Federal Airways.

* * * * *

V-16 [Amended]

From Los Angeles, CA; Paradise, CA; Palm Springs, CA; Blythe, CA; Buckeye, AZ; Phoenix, AZ; INT Phoenix 155° and Stanfield, AZ, 105° radials; Tucson, AZ; San Simon, AZ; INT San Simon 119° and Columbus, NM, 277° radials; Columbus; El Paso, TX; Salt Flat, TX; Wink, TX; INT Wink 066° and Big Spring, TX, 260° radials; Big Spring; Abilene, TX; Bowie, TX; Bonham, TX; Paris, TX; Texarkana, AR; Pine Bluff, AR; Marvell, AR; to Holly Springs, MS. From Shelbyville, TN; Hinch Mountain, TN; Volunteer, TN; Holston Mountain, TN; Pulaski, VA; Roanoke, VA; Lynchburg, VA; Flat Rock, VA; to Richmond, VA. From Smyrna, DE; Cedar Lake, NJ; Coyle, NJ; INT Coyle 036° and Kennedy, NY, 209° radials; Kennedy; INT Kennedy 040° and Calverton, NY 261° radials; Calverton; to INT Calverton, NY, 044° and Madison, CT, 142° radials. The airspace within Mexico and the airspace below 2,000 feet MSL outside the United States is excluded. The airspace within Restricted Areas R-5002A, R-5002C, and R-5002D is excluded during their times of use.

* * * * *

Issued in Washington, DC, on November 17, 2023.
Karen L. Chiodini,
Acting Manager, Rules and Regulations Group.

[FR Doc. 2023-25851 Filed 11-22-23; 8:45 am]

BILLING CODE 4910-13-P